DEPARTMENT OF DEFENSE

Office of the Secretary

Defense Science Board

AGENCY: Department of Defense.

ACTION: Notice of Advisory Committee Meetings.

SUMMARY: The Defense Science Board Task Force on Integrating Sensor-Collected Intelligence will meet in closed session on April 17-18, 2007; May 7-8, 2007; May 31-June 1, 2007; and July 19-20, 2007; at the Science Applications International Corporation, 4001 N. Fairfax Drive, Arlington, VA.

The mission of the Defense Science Board is to advise the Secretary of Defense and the Under Secretary of Defense for Acquisition, Technology & Logistics on scientific and technical matters as they affect the perceived needs of the Department of Defense. At these meetings, the Defense Science Board Task Force will: Assess the sufficiency of support for U.S. military forces by current and planned intelligence, surveillance and reconnaissance systems.

In accordance with Section 10(d) of the Federal Advisory Committee Act, Pub. L. No. 92-463, as amended (5 U.S.C. App. II), it has been determined that these Defense Science Board Task Force meetings concern matters listed in 5 U.S.C. 552b(c)(1) and that, accordingly, the meetings will be closed to the public.

FOR FURTHER INFORMATION CONTACT: LCDR Charles Lominac, USAF Military Assistant, Defense Science Board, 3140 Defense Pentagon, Room 3C553, Washington, DC 20301-3140, via e-mail at charles.lominacl@osd.mil, or via phone at (703) 571-0081.

Dated: March 27, 2007.
C.R. Choate,
Alternate OSD Federal Register Liaison Officer, Department of Defense.

[FR Doc. 07-1603 Filed 3-30-07; 8:45 am]

BILLING CODE 5001-06-M